DEPARTMENT OF DEFENSE

Office of the Secretary

[Docket ID DoD-2012-OS-0070]

Proposed Collection; Comment Request

AGENCY: Office of the Under Secretary of Defense for Personnel and Readiness, DoD.

ACTION: Notice.

In compliance with Section 3506(c)(2)(A) of the Paperwork Reduction Act of 1995, the Office of the Under Secretary of Defense for Personnel and Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 20, 2012.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Interoperability Services Layer, Attn: Ron Chen, 400 Gigling Road, Seaside, CA 93955.

Title; Associated Form; and OMB Number: Interoperability Services Layer; OMB Control Number 0704-TBD.

Needs and Uses: IoLS will be created as an enterprise level application supporting physical access control systems. IoLS will be a single application with multiple interfaces for different functionalities. A registration inquiry interface will accept a person identifier consisting of last name, first name, birthday, sex code, identifier type code and identifier number, search the “Local Population”, a federated authoritative data source, and return data necessary to register a subject in a PACS.

A Registry Data Service will provide credential verification, registry data and any prior security alerts that have been obtained from the CIME. In addition it provides the capability to add or update local facility access persons, otherwise known as “Locals” within the DoD, to a central data source so they too can be included in the update service.

An Update Data Service will provide updates to information affecting registry like credential revocations and security alerts.

Affected Public: Business or other for profit (non-Military or Federal Employee).

Annual Burden Hours: 25,688.

Number of Respondents: 308,258.

Responses per Respondent: 1.

Average Burden per Response: 5 minutes.

Frequency: On occasion.

SUPPLEMENTARY INFORMATION:

Summary of Information Collection

IoLS (Interoperability Layer Services) is an application in a set DMDC enterprise services specifically targeted to enhance DoD capability to support rapid electronic authentication for local/non-DoD population persons (i.e., vendors, contractors, laborers) requesting access to DoD Installations. IoLS is designed to enable disparate Physical Access Control Systems (PACS) within DoD to share identity and security related information. IoLS requires personal data collection to facilitate the initiation, investigation and adjudication of person security status by communicating with Continuous Information Management Engine (CIME) on Security Alert relevant to DoD security clearances and employment suitability determinations.

Dated: May 10, 2012.
Patricia L. Toppings,
OSD Federal Register Liaison Officer, Department of Defense.

[FR Doc. 2012-15006 Filed 6-19-12; 8:45 am]

BILLING CODE 5001-06-P